DEPARTMENT OF THE TREASURY

Office of the Comptroller of the Currency

12 CFR Part 163

Savings Associations—Operations

CFR Correction

In Title 12 of the Code of Federal Regulations, Parts 1 to 199, revised as of January 1, 2015, on page 920, in § 163.76, at the end of paragraph (c), reinstate a signature line and date line, and reinstate paragraph (d) to read as follows:

§ 163.76 Offers and sales of securities at an office of a Federal savings association.

* * * * *

(c) * * *

Signature:

Date:

(d) For purposes of this section, an “office” of an association means any premises used by the association that are identified to the public through advertising or signage using the association's name, trade name, or logo.

[FR Doc. 2015-32113 Filed 12-21-15; 8:45 am]

BILLING CODE 1505-01-D